DEPARTMENT OF THE INTERIOR

National Park Service

Subsistence Resource Commission; Meeting

AGENCY: National Park Service, Interior.

ACTION: Announcement of Subsistence Resource Commission meeting.

SUMMARY: Notice is hereby given in accordance with the Federal Advisory Committee Act that a meeting of the Aniakchak National Monument Park Subsistence Resource Commission will be held in Chignik Lake, Alaska. The purpose of the meeting will be to review Federal Subsistence Board wildlife proposals and continue work on National Park Service subsistence hunting program recommendations including other related subsistence management issues. The meeting will be open to the public. Any person may file with the Commission a written statement concerning the matters to be discussed.

The Subsistence Resource Commissions are authorized under Title VIII, section 808, of the Alaska National Interest Lands Conservation Act, Public Law 96-487, and operation in accordance with the provisions of the Federal Advisory Committee Act.

DATES: The meeting will be on Wednesday, September 15, 2004, from 9 a.m. to 4 p.m. at the Subsistence Community Hall in Chignik Lake, Alaska.

FOR FURTHER INFORMATION CONTACT: Mary McBurney, Subsistence Manager, at (907) 644-3598 and Joe Fowler, Superintendent, at (907) 246-3305.

SUPPLEMENTARY INFORMATION: Notice of this meeting will be published in local newspapers and announced on local radio stations prior to the meeting dates. Locations and dates may need to be changed based on weather or local circumstances.

The following agenda items will be discussed:

1. Call to order (SRC Chair).

2. Roll Call and Confirmation of Quorum.

3. SRC Chair and Superintendent's Welcome and Introductions.

4. Review Commission Purpose.

5. Status of Membership and Membership Commendations.

6. Review and Adopt Agenda.

7. Review and adopt minutes from last meeting.

8. Park Subsistence Coordinator's Report:

a. Report on Unit 9(E) Caribou.

b. Report on Unit 9(E) Moose.

9. Update—Review Federal Subsistence Board Wildlife Proposals and Actions.

10. Update—Review Federal Subsistence Board Fisheries Proposals and Actions.

11. Superintendent's report on SRC Requests.

12. Status of Durational Residency Issue.

13. New Business.

14. SRC Work Session—prepare correspondence and develop recommendations.

15. Public and agency comments.

16. Set time and place of next SRC meeting.

17. Adjournment.

Draft minutes of the meeting will be available for public inspection approximately six weeks after the meeting from: Superintendent, Aniakchak National Monument and Preserve, P.O. Box 7, King Salmon, Alaska 99613.

Dated: June 23, 2004.
Ralph Tingey,
Acting Regional Director, Alaska.

[FR Doc. 04-16154 Filed 7-15-04; 8:45 am]

BILLING CODE 4312-HE-P